DEPARTMENT OF LABOR

Employment and Training Administration

Notice of Availability of Funds and Solicitation for Grant Applications (SGA) for YouthBuild Grants

Announcement Type: Notice of Solicitation for Grant Applications.

Funding Opportunity Number: SGA/DFA PY 08-07.

Catalog of Federal Assistance Number: 17.274.

Key Dates: The closing date for receipt of applications under this announcement is January 15, 2009. Applications must be successfully submitted at http://www.grants.gov no later than 11:59:59 p.m. (Eastern Time) and then subsequently validated by Grants.gov. Application and submission information is explained in detail in Part IV of this SGA. DOL requires applicants to submit their applications electronically through Grants.gov, unless prior written approval for an exception is granted. Requests for exceptions to the electronic submission requirement is explained in detail in Part IV of this SGA. A Virtual Prospective Applicant Conference will be held for this grant competition. The date and access information for this Virtual Prospective Applicant Conference will be posted on ETA's Web site at http://www.doleta.gov/youth%5Fservices/youthbuildgrantee.cfm. Please be advised that the appropriation funding this competition does not allow for funds to be obligated prior to April 1, 2009.

SUMMARY: The U.S. Department of Labor (DOL or Department), Employment and Training Administration (ETA) announces the availability of approximately $47 million in grant funds for YouthBuild Grants.

YouthBuild Grants will be awarded through a competitive process. Grant funds will be used to provide disadvantaged youth with: The education and employment skills necessary to achieve economic self-sufficiency in occupations in high demand and postsecondary education and training opportunities; opportunities for meaningful work and service to their communities; and opportunities to develop employment and leadership skills and a commitment to community development among youth in low-income communities. As part of their programming, YouthBuild grantees will tap the energies and talents of disadvantaged youth to increase the supply of permanent affordable housing for homeless individuals and low-income families and to help youth develop the leadership, learning, and high-demand occupational skills needed to succeed in today's global economy.

DOL hopes to serve approximately 2,900 youth participants during the first year of the grant, with projects operating in approximately 90-100 communities across the country. Under this announcement, DOL will be awarding grants to organizations to oversee the provision of education and employment services to disadvantaged youth in their communities. Each applicant should indicate the proposed number of participants to be served based on an average annual cost of between $15,000—$18,000.

This solicitation provides background information and describes the application submission requirements, outlines the process that eligible entities must use to apply for funds covered by this solicitation, and outlines the evaluation criteria used as a basis for selecting grantees.

ADDRESSES: DOL will accept electronic applications only, and they must be submitted through the Grants.gov portal, unless the applicant has received prior written approval for an exception from the Grant Officer, as named in this solicitation. Applicants must submit exception requests and, upon receiving an exception of the electronic submission requirements, their complete applications in paper copy to the U.S. Department of Labor, Employment and Training Administration, Division of Federal Assistance, Attention: Donna Kelly, Reference SGA/DFA PY 08-07, 200 Constitution Avenue, NW., Room N-4716, Washington, DC 20210. Applications that do not meet the conditions set forth in this notice will not be considered. No exceptions to the submission requirements set forth in this notice will be granted.

SUPPLEMENTARY INFORMATION:

This solicitation consists of eight parts:

• Part I provides background information on YouthBuild, a description of ETA's Youth Vision, YouthBuild program objectives, and additional information on the key components of YouthBuild to consider when preparing an application.

• Part II describes the size and nature of the anticipated awards.

• Part III describes eligibility information.

• Part IV provides information on the application and submission process.

• Part V describes the criteria against which applications will be reviewed and explains the proposal review process.

• Part VI provides award administration information.

• Part VII contains ETA agency contact information.

• Part VIII lists additional resources of interest to applicants and other information.

I. Funding Opportunity Description

YouthBuild is a youth and community development program that simultaneously addresses several core issues facing low-income communities: housing, education, employment, crime prevention, and leadership development. Part A of this section provides a background of the YouthBuild program. Part B describes the core objectives of the YouthBuild program with Part C providing additional information on key components of YouthBuild to consider when preparing a grant application.

A. Background

The YouthBuild model balances in-school learning, geared toward a high school diploma or passing the General Education Development (GED) test, and construction skills training, geared toward a career placement for the youth. The in-school component is an alternative education program that assists youth who are often significantly behind in basic skills to obtain a high school diploma or GED credential. The primary target populations for YouthBuild are high school dropouts that may also be adjudicated youth, youth aging out of foster care, and other at-risk youth populations. The YouthBuild model enables these youth to access the education they need to move on to post-secondary and high-growth, high demand jobs which will enable them to prosper in the 21st century economy. There are currently over 200 YouthBuild programs operating in the United States, funded through various funding sources.

YouthBuild was started in East Harlem, New York in 1978 to provide education services for youth and teach construction skills while renovating and building homes for low-income families. It was replicated in five locations in New York City during the 1980s. In 1993, the YouthBuild program was established by Federal statute and the U.S. Department of Housing and Urban Development (HUD) was designated as the agency responsible for administering the program.

In December 2003, the White House Task Force for Disadvantaged Youth recommended the transfer of the YouthBuild program from HUD to DOL because the program is “at its core, an employment and training program for disadvantaged youth, and will benefit from administrative oversight in DOL within the Employment and Training Administration.”

In September 2006, the YouthBuild Transfer Act was signed by President George W. Bush. The bill repeals the YouthBuild program's statutory authority under the Cranston-Gonzalez National Affordable Housing Act (Pub. L. 102-550; 49 U.S.C. 12899 et seq.) and transfers the statutory authority for the program, with needed modifications and improvements, to subtitle D of Title I of the Workforce Investment Act (WIA). The YouthBuild program is being administered as a “national program” by ETA.

Since its inception, a primary purpose of the YouthBuild program has been to provide job training and employment opportunities for disadvantaged youth. ETA will leverage its significant expertise and resources in the area of workforce investment under WIA to strengthen YouthBuild grantees' connections to One-Stop Career Centers and the Department's registered apprenticeship programs; leverage investments such as the President's High Growth Job Training Initiative; improve access to the post-secondary and community college system; and broker connections to the workforce system's business partners.

B. Youthbuild Program Objectives

Funds made available through the YouthBuild grants will be used to carry out a YouthBuild program with the following core objectives:

• To enable disadvantaged youth to obtain the education and employment skills necessary to achieve economic self-sufficiency in occupations in demand and post-secondary education and training opportunities;

• To provide disadvantaged youth with opportunities for meaningful work and service to their communities;

• To foster the development of employment and leadership skills and commitment to community development among youth in low-income communities; and

• To expand the supply of permanent affordable housing for homeless individuals and low-income families by utilizing the energies and talents of disadvantaged youth.

C. Key Components and Additional Information About the YouthBuild Grant Application Process

What Type of Information Should Be Addressed in the Design of the Program?

Part II of the application contains the Technical Proposal, which should address specific grant requirements identified in Section A of Part V of this SGA. Applicants applying for these grants are asked to describe their community, the youth to be served, the need for this Federal support, and their plan for providing education, skills training, and leadership development services to youth. They must describe how their efforts contribute to the overall economic development of their community. They must also demonstrate that they have established partnerships with—or made a good faith effort to establish partnerships with—Local Workforce Investment Boards, the public school system, local community colleges, the juvenile justice system, registered apprenticeship programs, local faith-based and community organizations that serve at-risk and disadvantaged youth, and/or the local housing authority. Applicants are expected to identify their plan to leverage other Federal, State, or local funding, as well as private funding sources, to provide other “wrap around” supportive services as well as to support the costs associated with their defined construction project. Applicants are asked to describe their previous experience operating YouthBuild or similar youth programs with educational components. Applicants are asked to describe how occupational safety is addressed at their worksite. They are also asked to describe their organization's ability to manage this grant.

What Size Grants Are Available?

Applicants can apply for 3 year grants (2 years of program operations with a 12 month follow-up period) that will range from $700,000 to $1.1 million. These grants will be incrementally funded, with half of the grant funds awarded from fiscal year (FY) 2009 appropriations, for the first 12 months of operations. Pending satisfactory performance and availability of funds, the remaining funds would be awarded next year (FY 2010) for second year operations. These awards will support 2 years of core program operations (education, occupational skills training, and youth leadership development activities) plus an additional 12 months of follow-up support services and tracking of participant outcomes for each cohort of youth. A minimum of 5 percent of total funds should be reserved for the 12 month follow-up period.

If an Organization was Selected to Receive a New Award in FY 2008 (Awarded July 2008) or if an Organization has Remaining Funds from a Previous YouthBuild Competition Either from the Housing and Urban Development or the Department of Labor, are they Eligible to Apply in this YouthBuild Competition?

Yes; however, the prospective applicant should demonstrate how funds will be expended in the period of performance outlined in this SGA.

What Roles Might Partners Play in Partnerships?

Because disadvantaged youth possess a wide range of challenges that must be addressed through multiple strategies, prospective applicants must undertake an inventory of their communities to identify resources and services provided by faith-based and community organizations, government entities, and other youth serving organizations. The inventory will provide an opportunity for prospective applicants to do a fresh assessment of potential partners and resources that will support the YouthBuild program. Collaboration across youth serving agencies/organizations is critical to the success of any youth initiative or program. A single organization does not typically have the resources to respond to the myriad of issues that impact youth most in need. The Department understands that these inventories will vary from community to community and that, particularly for rural and Native American applicants, resources and services may be limited.

Because of the importance of collaboration and partnership, DOL is a member of the Shared Youth Vision Federal Partnership. The Federal Partnership has a mission to collaborate and coordinate across agencies in order to effectively serve the youth most in need. There are a number of States (currently over half) who have formed Shared Youth Vision State teams. Please go to the ETA's Web site for a list of State teams and more information on the Shared Youth Vision at http://www.doleta.gov/ryf/WhiteHouseReport/VMO.cfm.

Partnerships and partnership roles will vary depending on the applicant's strategy and participant needs. However, DOL expects that the applicant will make a good-faith effort to attract the following partners and that each collaborative partner will, at a minimum, contribute as described below.

Education and training providers (K-12, adult education, community and technical colleges, 4-year colleges and universities, and other training entities) are important foundational partners to ensure the project's activities are tied to the broader continuum of education providers in the community. Whenever possible, the YouthBuild program should strive to be connected in a meaningful way with the K-12 system for the purpose of (1) ensuring a wider variety of educational opportunities within the community as a whole and (2) as a drop-out prevention strategy. YouthBuild programs should also be connected to post-secondary training opportunities, particularly community colleges, whenever possible to ensure the smooth transition of YouthBuild participants into post-secondary training opportunities available through community colleges, including the use of articulation agreements and staff development for YouthBuild staff. Programs that offer the GED should have explicit, well-defined pathways to post-secondary educational opportunities such as community colleges, registered apprenticeship programs, and other occupational training programs.

Employers (including professional organizations and trade associations) should be actively engaged in the project and should participate fully in grant activities including: defining the program strategy and goals; identifying needed skills and competencies; designing training approaches and curricula; contributing financial support; sponsoring apprenticeship and pre-apprenticeship placements and activities; and, where appropriate, hiring qualified YouthBuild graduates.

The workforce investment system (which may include State and Local Workforce Investment Boards, State Workforce Agencies, and One-Stop Career Centers and their cooperating partners, as such terms are defined under the WIA), may play a number of roles, including: identifying and assessing potential candidates for YouthBuild; working collaboratively to leverage WIA investments through co-enrollment with the Youth Formula program; referring qualified candidates to the YouthBuild program for enrollment; providing access to “wrap-around” supportive services, when appropriate; providing local labor market information to YouthBuild staff and participants; and connecting qualified YouthBuild graduates to employers that have existing job openings. Examples of YouthBuild programs working with the workforce system can be found in TRAINING AND EMPLOYMENT NOTICE NO. 44-07, “Providing Strategies to the One-Stop Career Center System on Collaborating with YouthBuild Programs” at http://wdr.doleta.gov/directives/corr_doc.cfm?DOCN=2646.

The juvenile justice system is an important partner in referring potential participants to the YouthBuild program, providing support and guidance for YouthBuild participants with court involvement, and assisting in the reporting of recidivism rates among YouthBuild participants. Some YouthBuild participants may be placed in the program as a form of alternative sentencing or for re-entry services. In these instances, police, parole and probation, detention and juvenile correction facilities, judges, and social workers will be critically important partners for creating a safety net to prevent recidivism and ensure attachment to the community.

Faith-based and community organizations are valuable partners in the YouthBuild program. These organizations can serve as avenues of outreach to eligible youth and may provide a variety of grant services, such as case management, mentoring, and English as a Second Language (ESL) courses, and other comprehensive supportive services, when appropriate, for YouthBuild participants. Industry-related groups, such as ACE Mentoring (http://www.acementor.org) may also provide valuable work experience in construction and related fields in the context of a mentoring relationship.

Each collaborative partner must have a clearly defined role. These roles must be verified through a letter of commitment (not just a letter of support) submitted by each partner. The letter of commitment must detail the role the partner will play in the project, including specific responsibilities and resources committed, if appropriate. These letters must clearly indicate the partnering organization's unique contribution and commitment to the project.

In situations where these partnerships are not supported with letters of commitment, the applicants should, at a minimum, demonstrate that the potential partner was contacted and provided a sufficient opportunity for response. It is suggested that applicants use registered mail to demonstrate such efforts.

What if Two or More Organizations Submit Separate Applications To Serve the Same Urban or Rural Community?

If more than one proposal to serve the same urban or rural community is rated highly, DOL will consider whether the urban or rural community is large enough to support more than one project.

Can I Apply for Multiple Towns in One Application?

If a town is large enough to reasonably support a YouthBuild program, the grant activities should generally be focused on one town. If the applicant determines that the town is not large enough to support a YouthBuild program, it may include additional towns and provide justification for one larger service area. If multiple towns are included together in the application, applicants must limit the total requested grant amount to $1.1 million.

What Is the Definition of “Low-Income” Family for the Purposes of Program Eligibility?

The definition of “low-income family” is taken directly from the United States Housing Act of 1937 (42 U.S.C. 1437a(b)(2)) which states:

“The term ‘low-income families’ means those families whose incomes do not exceed 80 per centum of the median income for the area, as determined by the Secretary with adjustments for smaller and larger families, except that the Secretary may establish income ceilings higher or lower than 80 per centum of the median for the area on the basis of the Secretary's findings that such variations are necessary because of prevailing levels of construction costs or unusually high or low family incomes.”

The median for each applicant's proposed area of service can be found at HUD's Web site: http://www.huduser.org/datasets/il.html.

What Are Allowable Uses of Grant Funds?

Allowable uses of grant funds may include:

(1) Education and Workforce Activities, such as:

• Basic skills instruction and remedial education;

• Language instruction educational programs for individuals with limited English proficiency;

• Secondary education services and activities, including tutoring, study skills training, and dropout prevention activities, designed to lead to the attainment of a secondary school diploma, GED credential, or other State-recognized equivalent (including recognized alternative standards for individuals with disabilities);

• Counseling and assistance in obtaining post-secondary education and required financial aid;

• Alternative secondary school services;

• Work experience and skills training (coordinated, to the maximum extent feasible, with pre-apprenticeship and registered apprenticeship programs) in housing rehabilitation and construction activities;

• Occupational skills training; and

• Other paid and unpaid work experiences, including internships and job shadowing.

(2) Counseling services and related activities, such as comprehensive guidance and counseling on drug and alcohol abuse and referral.

(3) Youth development activities, such as:

• Community service and peer-centered activities encouraging responsibility and other positive social behaviors, and

• Leadership development activities related to youth policy committees that allow YouthBuild participants to engage in local policy and decision-making related to the program.

(4) Supportive services and provision of need-based payments necessary to enable individuals to participate in the program.

(5) Supportive services to assist individuals, for a period not to exceed 12 months after the completion of training, in obtaining or retaining employment, or applying for and transitioning to post-secondary education.

(6) Supervision and training for participants in the rehabilitation or construction of housing, including residential housing for homeless individuals or low-income families, or transitional housing for homeless individuals.

(7) Supervision and training for participants in the rehabilitation or construction of community and other public facilities.

(8) Payment of a portion of the administrative costs of the grantee.

(9) Mentoring (one-on-one, group or team) of participants by adults who have been appropriately screened and matched to work with youth.

(10) Provision of wages, stipends, or other benefits and incentives to participants in the program.

(11) Ongoing training and technical assistance for staff that are related to developing and carrying out the program.

(12) Follow-up services.

(13) Equipment and/or supplies related to the YouthBuild activities funded through this grant. The Department interprets this to mean that the purchase of construction materials to be used as part of the direct training for YouthBuild participants would be an allowable use of grant funds.

Can Training Be Provided in Industries Other Than Construction?

No, DOL YouthBuild funds provided under this solicitation cannot be used to support occupational skill training other than construction. Programs may offer training in other industries however, other funding sources must be used to support these career pathways.

Will YouthBuild Projects Be Required To Follow Occupational Safety and Health Administration (OSHA) Guidelines?

Yes, YouthBuild projects will be required to follow Occupational Safety and Health Administration (OSHA) guidelines in the operation of their construction projects and to submit incident reports to DOL of injuries occurring on worksites. DOL will require that YouthBuild grantees:

• Provide comprehensive documented training on construction safety for youth working on YouthBuild projects, including requirements for youth to demonstrate knowledge and proficiency in hazard identification, abatement, and safe work practices;

• Demonstrate compliance with Federal and state child labor laws and occupational safety and health regulations;

• Provide written jobsite-specific safety plans overseen by an on-site supervisor with the knowledge, skills, and authority to correct safety and health hazards and enforce the site-specific safety plan;

• Provide necessary personal protective equipment to youth working on YouthBuild projects; and

• Report all worksite injuries and illnesses to youth working on YouthBuild projects, along with documentation on remedial measures to prevent future similar injuries and help ensure that YouthBuild is a model program that takes active steps for participant safety and health.

Can DOL Funds Be Used for Paid Work Experiences, Needs-Based Stipends, Wages, and Other Supportive Services?

Payments to participants for classroom training, paid work experiences, and occupational skill training are allowable expenses as well as for other needs-based supportive services. If the applicant plans to use grant funds for these purposes, sufficient information must be provided in the budget narrative to clearly justify the proposed amounts to be provided. Grantees are responsible for consulting with an accountant or other experts to ascertain if their payment structure complies with IRS standards.

Is the Purchase of Food an Allowable Use of Funds?

DOL considers food to be an allowable cost for YouthBuild when used as a supportive service. To qualify, the provision of food must be needs-based, and must be necessary to enable the recipients to participate in the program. The purchase of food is an unallowable cost for grant funds if expended for any reason other than needs-based supportive services. To provide food as a supportive service, grantees must create and consistently apply a written policy for determining needs-based services for participants. Grantees can provide food to enrollees as part of an on-site training class or work-site experience where access to food services and vendors is unavailable or unreliable, but you must document in your files that providing such food directly is reasonable and necessary in order to ensure continuity of training services.

Should Prospective Applicants Include Travel Costs Associated With Technical Assistance and Training in Their Budget?

Prospective applicants should include travel funds in their budget to cover travel for key staff to attend at least one national meeting per year and at least two regional trainings per year.

How Will Success Be Measured Under These Grants?

The three outcome measures are:

• Literacy and numeracy gains;

• High School diploma/GED/certification attainment rate; and

• Placement in employment/post-secondary education/occupational skills training program/military.

In addition, grantees may report on a number of interim indicators that will serve as predictors of success. Interim indicators include:

• Placement retention rate;

• Enrollment rate;

• Participation in education/training activities;

• Workforce preparation:

• Recidivism;

• Mentoring; and

• Community service/leadership activities.

In applying for these grants, applicants agree to submit updated Management Information System (MIS) data on enrollee characteristics, services provided, placements, outcomes, and follow-up status. YouthBuild grantees are required to use the ETA Web-based Case Management and Performance System which is provided to grantees at no cost.

What Is the Expected Average Annual Cost per Participant?

DOL expects the annual cost to be between $15,000 and $18,000 per participant.

When Is the YouthBuild Program Expected To Begin Enrolling Youth?

Grantees must begin program operations, including the enrollment of youth within 6 months from the date of the award, and where possible align with the local academic calendar.

Although there is no way to address every question in this solicitation, the following questions associated with allowable construction costs were frequently asked and are included for your information:

Can Funds Be Used for Rehabilitation or Construction of Buildings Other Than Low-Income Housing?

Yes. In training participants, up to 10 percent of grant funds may be used in the rehabilitation or construction of community and other public facilities. Public facilities include health care clinics, schools, and community centers. The remaining 90 percent of funds must be used to train participants in the rehabilitation or construction of low-income housing.

Would Construction of a Kitchen or Shower Facility Be an Allowable Cost to a Public Facility?

If it is a public facility that needs to have a kitchen or shower facility installed and it is done under the 10 percent limitation and it is used for training purposes, then it is allowable.

Does a Federally-Qualified Health Care Facility Qualify as an Allowable Construction Site?

The rehabilitation of a community health facility is permissible. The 10 percent limitation would apply to such costs.

Are Architectural Fees an Allowable Use of Grant Funds?

Yes, the portions of the architectural fees that are related to allowable YouthBuild training activities funded through this grant are an allowable use of funds.

Are Brokerage Fees an Allowable Use of Grant Funds?

No, brokerage fees and other fees associated with the acquisition of property are not directly related to participant training and are not an allowable use of grant funds.

Are Subcontractor Costs and Supplies, e.g. Roofing, Landscaping, etc., Allowable Uses of Grant Funds?

Non-training services and deliverables that are not directly related to participant training are not an allowable use of grant funds unless they are used in the provision of training. Property enhancements, such as landscaping, are not allowable grant costs.

Can Unallowable Costs Be Used To Fulfill the 25 Percent Match Requirement?

If the cost is not allowable to be paid with grant funds, it would also not be acceptable in fulfilling the 25 percent match requirement.

Can Funds Be Used To Purchase Land?

Grant funds may not be used to purchase land.

Can Grant Funds Be Used To Purchase a Home To Rehabilitate for the Project?

Grantees may only charge a proportion of the purchase cost, exclusive of land, which is reflective of the portion of the property that will be used for participant training.

II. Award Information

A. Award Amount

DOL intends to fund approximately 90-100 grants ranging from $700,000 to $1.1 million through this competition; however, this does not preclude DOL from funding grants at either a lower or higher amount, or funding a smaller or larger number of projects, based on the type and the number of quality submissions. Applicants are encouraged to submit budgets within this range for quality projects at whatever funding level is appropriate to their project. The average annual cost per participant should be between $15,000 and $18,000.

In the event additional funds become available, ETA reserves the right to use such funds to select additional grantees from applications submitted in response to this solicitation.

B. Period of Performance

Grants will be awarded for a 3 year period of performance. This includes 2 years of core program operations (education, occupational skills training, and youth leadership development activities) for 2 or more cohorts of youth plus an additional 12 months of follow-up support services and tracking of participant outcomes for each cohort of youth.

III. Eligibility Information and Other Grant Specifications

A. Eligible Applicants

An organization is an eligible applicant for these grants if it is a public or private non-profit agency or organization (including a consortium of such agencies or organizations with a designated lead applicant), including, but not limited to:

• Community-based organizations, including faith-based organizations;

• An entity carrying out activities under the WIA, such as a local workforce investment board or One-Stop Career Center;

• A community action agency;

• A State or local housing development agency;

• An Indian tribe or other agency primarily serving Indians;

• A community development corporation;

• A State or local youth service conservation corps; or

• Any other relevant public or private non-profit entity that provides education or employment training and can meet the required elements of the grant.

B. Eligible Enrollees

An individual may participate in a YouthBuild program only if such individual:

• Is between the ages of 16 and 24 on the date of enrollment; and

• Is a member of a disadvantaged youth population such as a member of a low-income family, and/or a youth in foster care (including youth aging out of foster care), and/or a youth offender, and/or a youth who is an individual with a disability, and/or a child of an incarcerated parent, and/or a migrant youth; and

• A school dropout.

Organizations are not required to serve the entire age group population between 16 and 24, but all participants must fall within this range.

Up to (but not more than) 25 percent of the participants in the program may be youth who do not meet the education or disadvantaged criteria above but:

• Are basic skills deficient, despite attainment of a secondary school diploma, GED credential, or other state-recognized equivalent (including recognized alternative standards for individuals with disabilities); or

• Have been referred by a local secondary school for participation in a YouthBuild program leading to the attainment of a secondary school diploma.

C. Matching Funds and Leveraged Resources

Aligning resources and leveraging funding are key components of success under the YouthBuild grant program. Therefore, applicants must provide cash or in-kind resources equivalent to 25 percent of the grant award amount as matching funds. Please note that neither prior investments nor Federal resources may be counted towards the matching funds threshold. Construction materials that are acquired without grant funds and are used for approved projects as part of the training for YouthBuild participants may be used in fulfilling the 25 percent match requirement. The match may be cash or in-kind resources and must meet all the requirements in accordance with the applicable Federal cost principles.

To be allowable as part of match, a cost must be an allowable charge for Federal grant funds. Determinations of allowable costs will be made in accordance with the applicable Federal cost principles as indicated in Part IV(E). If the cost would not be allowable as a grant-funded charge, then it also cannot be counted toward matching funds. Matching funds must be expended during the grant period of performance and must be reported quarterly on the ETA 9130 form.

Any cash or in-kind resources committed beyond the 25 percent of the grant award amount required as matching funds may be counted as leveraged funds. Please note that applicants are expected to fulfill the match amount specified on their SF-424 application and SF-424A budget form. The SF-424A form is required even though the form states that it should only be used for non-construction. Upon completion of the grant, if the match amount specified by the applicant is not met or if a portion of the matching funds are found to be an unallowable cost, the amount of DOL grant funds may be decreased on a dollar for dollar basis. This may result in the repayment of funds to DOL. Applicants who fail to provide a 25 percent match will be considered non-responsive.

Applicants are encouraged to leverage additional funds outside of the match to supplement the project as a whole. Matching funds and leveraged resources could come from a variety of sources including: public sector (e.g., State or local governments); non-profit sector (e.g., community organizations, faith-based organizations, or education and training institutions); private sector (e.g., businesses or industry associations); investor community (e.g., angel networks or economic development entities); and the philanthropic community (e.g., foundations).

Applicants should clearly make the distinction of what will be considered matching funds versus “additional” leveraged funds. In addition to the Federal amount you are requesting, the matching funds shall be shown on the SF-424 and SF-424A. Do not include the leveraged funds on the SF 424 or SF 424A. The amount of funds specified on these forms will be considered by DOL as the applicant's match. Leveraged resources should be explained in the budget narrative separate from the explanation of match. Applications will be evaluated on how the match and leveraged funds are fully integrated in support of program outcomes. Grantees must track and report both match and other non-Federal leveraged resources quarterly on Form ETA 9130. Instructions and the form may be found at http://www.doleta.gov/sga/pdf/9130_Basic_JUL08.pdf.

IV. Application and Submission Information

A. Address To Request Application Package

This SGA contains all of the information and links to forms needed to apply for grant funding.

B. Content and Form of Application Submission

The proposal will consist of three separate and distinct parts—a cost proposal (I), a technical proposal (II), and a description of and information on the work site (III). Applications that fail to adhere to the instructions in this section will be considered non-responsive and will not be considered.

Part I. The Cost Proposal. The Cost Proposal must include the following four items:

• The Standard Form (SF) 424, “Application for Federal Assistance” (available at http://www07.grants.gov/agencies/forms_repository_information.jsp and http://www.doleta.gov/grants/find_grants.cfm). The SF 424 must clearly identify the applicant and be signed by an individual with authority to enter into a grant agreement. Upon confirmation of an award, the individual signing the SF 424 on behalf of the applicant shall be considered the authorized representative of the applicant.

• All applicants for Federal grant and funding opportunities are required to have a Dun and Bradstreet (DUNS) number. See Office of Management and Budget (OMB) Notice of Final Policy Issuance, 68 FR 38402, Jun. 27, 2003. Applicants must supply their DUNS number on the SF 424. The DUNS number is a nine-digit identification number that uniquely identifies business entities. Obtaining a DUNS number is easy and there is no charge. To obtain a DUNS number, access this website: www.dunandbradstreet.com or call 1-866-705-5711.

• The SF 424A Budget Information Form (available at http://www07.grants.gov/agencies/forms_repository_information.jsp and http://www.doleta.gov/grants/find_grants.cfm). In preparing the Budget Information Form, the applicant must provide a concise narrative explanation to support the request.

• A Budget Narrative: The budget narrative should break down the budget, match and leveraged resources by project activity, should discuss cost-per-participant, and should discuss precisely how the administrative costs support the project goals. If the applicant plans to use grant funds for paid work experiences, needs-based payments, and other supportive services for the participants, sufficient information must be provided in the budget narrative to clearly justify the proposed amounts to be provided. All 3 years of proposed funding should be included on the SF 424A.

Please note that applicants that fail to provide a SF 424, SF 424A, a Dun and Bradstreet number, and a budget narrative will be removed from consideration prior to the technical review process. Only an applicant's match amount (not other leveraged resources) should be listed on the SF 424 (Block 18) and SF 424A Budget Information Form (Section A & C). The amount of Federal funding requested for the entire period of performance (i.e. 3 years) should be shown together on the SF 424 and SF 424A Budget Information Form. Applicants are also encouraged, but not required, to submit OMB Survey N. 1890-0014: Survey on Ensuring Equal Opportunity for Applicants, which can be found at http://www.doleta.gov/sga/forms.cfm.

Part II. The Technical Proposal. The Technical Proposal will demonstrate the applicant's capability to implement the YouthBuild grant project in accordance with the provisions of this solicitation. The guidelines for the content of the Technical Proposal are provided in Part V Section A of this SGA. The Technical Proposal is limited to 20 double-spaced single-sided pages with 12 point text font and 1 inch margins. Any materials beyond the 20-page limit will not be read. Applicants should number the Technical Proposal beginning with page number 1.

In addition to the 20-page Technical Proposal, the applicant must provide an organization chart that reflects how the YouthBuild program will be staffed. In instances where the YouthBuild program is part of a larger organization (e.g., a Housing Authority), please include a diagram that indicates where the YouthBuild program fits within the larger organization. Also, the applicant must provide a timeline outlining project activities; letters of commitment from partners; and a two-page Abstract summarizing the proposed project including applicant name, project title, a description of the area to be served, and the funding level requested. The Abstract must note whether the application is being submitted as an urban, rural, or Native American application. No support letters are permitted. Commitment letters must accompany the application electronically. Please note that applicants should not send letters of commitment separately to ETA because letters are tracked through a different system and will not be attached to the application for review. These additional materials (organizational chart, timeline, commitment letters, and two-page abstract) do not count against the 20-page limit for the Technical Proposal, but may not exceed twenty (20) pages. Any additional materials (organizational chart, timeline, commitment letters, and two-page abstract) beyond the 20-page limit will not be read.

Part III. The Work Site Description. The application must submit the Work Site Description Form (ETA-9143) including all requested attachments, which describes the planned work site that will be used for on-site construction training for youth participants. These forms can be found at http://www.doleta.gov/youth%5Fservices/youthbuildgrantee.cfm. Information on property for use in year two will be requested prior to receipt of 2nd year funding.

Section 10 of ETA 9143 requests information from the property owner or property management company or companies allowing access to the housing site(s) for on-site construction training. DOL will deem non-responsive any application that fails to specifically identify the location of the on-site construction, including evidence of site access. Guidance on evidence of site access is as follows:

• If the applicant has a contract or option to purchase the property, include a copy of the contract or option; or

• If a third party owns the property or has a contract or option to purchase, that third party must provide a letter stating the nature of the ownership and specifically providing access to the property for the purposes of the program and the time frame in which the property will be available. In the case of a contract or option, include a copy of the document.

C. Submission Process, Date, Times, and Addresses

The closing date for receipt of applications under this announcement is January 15, 2009.

1. Electronic Submission. DOL requires applicants to submit their applications electronically through Grants.gov, unless prior written approval for an exception is granted (see #2 below for more information). Applications must be successfully submitted at http://www.grants.gov no later than 11:59:59 p.m. (Eastern Time) on January 15, 2009, and then subsequently validated by Grants.gov. The Grants.gov helpdesk is available from 7 a.m. (Eastern Time) until 9 p.m. (Eastern Time). Applicants should factor the unavailability of the Grants.gov helpdesk after 9 p.m. (Eastern Time) into plans for submitting an application. The submission and validation process is described in more detail below. The process can be complicated and time-consuming. Applicants are strongly advised to initiate the process as soon as possible and to plan for time to resolve technical problems if necessary.

It is strongly recommended that before the applicant begins to write the proposal, applicants should immediately initiate and complete the “Get Registered” registration steps at http://www.grants.gov/applicants/get_registered.jsp. These steps may take multiple days or weeks to complete, and this time should be factored into plans for electronic submission in order to avoid unexpected delays that could result in the rejection of an application. It is highly recommended that applicants use the “Organization Registration Checklist” at http://www.grants.gov/assets/Organization_Steps_Complete_Registration.pdf to ensure the registration process is complete.

Within two business days of application submission, Grants.gov will send the applicant two e-mail messages to provide the status of application progress through the system. The first e-mail, almost immediate, will confirm receipt of the application by Grants.gov. The second e-mail will indicate the application has either been successfully validated or has been rejected due to errors. Only applications that have been successfully submitted and successfully validated will be considered. It is the sole responsibility of the applicant to ensure a timely submission, therefore sufficient time should be allotted for submission (two business days), and if applicable, subsequent time to address errors and receive validation upon resubmission (an additional two business days for each ensuing submission). It is important to note that if sufficient time is not allotted and a rejection notice is received after the due date and time, the application will not be considered.

The components of the application must be saved as either .doc, .xls or .pdf files. Documents received in a format other than .doc, .xls or .pdf will not be read.

Applicants are strongly advised to utilize the plethora of tools and documents, including FAQs, that are available on the “Applicant Resources” page at http://www.grants.gov/applicants/app_help_reso.jsp#faqs. To receive updated information about critical issues, new tips for users and other time sensitive updates as information is available, applicants may subscribe to “Grants.gov Updates” at http://www.grants.gov/applicants/email_subscription_signup.jsp.

If applicants encounter a problem with Grants.gov and do not find an answer in any of the other resources, call 1-800-518-4726 to speak to a Customer Support Representative or e-mail “support@grants.gov”.

2. Exceptions to the Electronic Submission Requirement. DOL will accept electronic applications only, and they must be submitted through the Grants.gov portal, unless the applicant has received prior written approval for an exception from the Grant Officer, as named in this solicitation. An exception request must be in writing and state the basis for the request and explain why electronic submission is not possible. Exception requests must be sent to the U.S. Department of Labor, Employment and Training Administration, Division of Federal Assistance, Attention: Donna Kelly, Reference SGA/DFA PY 08-07, 200 Constitution Avenue, NW., Room N-4716, Washington, DC 20210. The basis for exceptions may include, but are not limited to (a) lack of available Internet access in the geographic location in which the applicant's business office is located or (b) physical disability of the applicant that prevents the applicant from accessing or responding to the application electronically. The exception request should also include an email address, if available, or a name and mailing address where responses can be directed. Exception requests will be accepted beginning on the date of publication of this solicitation and must be received no later than December 16, 2008. DOL will not consider an exception request that does not conform to the above requirement (see #3 below for the limited circumstances in which we will consider a request that arrives after that date). DOL will acknowledge receipt of the exception request by e-mail, if an e-mail address is provided, or by other available means. DOL will not make determinations or respond to exception requests via the telephone, and will not accept exception requests by email. Each exception request will be reviewed and a determination made. DOL will inform the applicant, whether or not the exception has been granted. In the event an exception is granted, the submission date for mailed applications will be the same as the electronic application submission receipt date. Applicants receiving an exception must follow the submission instructions as follows.

Submission Instructions for Applicants Receiving an Exception of Electronic Submission. Applicants receiving an exception of the electronic submission requirements must submit their complete applications in paper copy as follows:

(a) Mailed applications must be addressed to the U.S. Department of Labor, Employment and Training Administration, Division of Federal Assistance, Attention: Donna Kelly, Reference SGA/DFA PY 08-07, 200 Constitution Avenue, NW., Room N-4716, Washington, DC 20210. Applicants are advised that mail delivery in the Washington area may be delayed due to mail decontamination procedures. Hand delivered and overnight delivery proposals will be received at the above address.

(b) Applicants submitting proposals in hard-copy must submit an original signed application (including the SF 424) and one (1) “copy-ready” version free of bindings, staples or protruding tabs to ease in the reproduction of the proposal by DOL. Applicants submitting proposals in hard-copy are also requested, though not required, to provide an electronic copy of the proposal on CD-ROM. Please reference SGA/DFA PY 08-07 on the submittal envelope.

(c) Applications sent by e-mail, telegram, or facsimile (fax) will not be accepted. Applications that do not meet the conditions set forth in this notice will not be honored. No exceptions to the mailing and delivery requirements set forth in this notice will be granted. Any paper applications received without prior written approval for exception to the requirements of electronic submission will not be considered.

3. Late Applications. For applications submitted on Grants.gov, only applications that have been successfully submitted no later 11:59:59 p.m. (Eastern Time) on the closing date and successfully validated will be considered. For applicants receiving an exception of the electronic submission requirement, any application received after the exact date and time specified for receipt at the office designated in this notice will not be considered, unless it is received before awards are made, was properly addressed, and: (a) was sent by U.S. Postal Service registered or certified mail not later than the fifth calendar day before the date specified for receipt of applications (e.g., an application required to be received by the 20th of the month must be post marked by the 15th of that month) or (b) was sent by professional overnight delivery service to the addressee not later than one working day prior to the date specified for receipt of applications. “Post marked” means a printed, stamped or otherwise placed impression (exclusive of a postage meter machine impression) that is readily identifiable, without further action, as having been supplied or affixed on the date of mailing by an employee of the U.S. Postal Service. Therefore, applicants should request the postal clerk to place a legible hand cancellation “bull's eye” postmark on both the receipt and the package. Failure to adhere to the above instructions will be a basis for a determination of nonresponsiveness. Evidence of timely submission by a professional overnight delivery service must be demonstrated by equally reliable evidence created by the delivery service provider indicating the time and place of receipt.

D. Intergovernmental Review

This funding opportunity is not subject to Executive Order (EO) 12372, “Intergovernmental Review of Federal Programs.”

E. Cost Principles

All proposal costs must be necessary and reasonable in accordance with Federal guidelines. Determinations of allowable costs will be made in accordance with the applicable Federal cost principles, e.g., Non-Profit Organizations—OMB Circular A-122. Disallowed costs are those charges to a grant that the grantor agency or its representative determines not to be allowed in accordance with the applicable Federal Cost Principles or other conditions contained in the grant. Applicants will not be entitled to reimbursement of pre-award costs.

Legal Rules Pertaining to Inherently Religious Activities by Organizations that Receive Federal Financial Assistance. Direct Federal grants, sub-awards, or contracts under this program shall not be used to support inherently religious activities such as religious instruction, worship, or proselytization. Therefore, organizations must take steps to separate, in time or location, their inherently religious activities from the services supported with DOL financial assistance under this program. Neutral, secular criteria that neither favor nor disfavor religion must be employed in the selection of grant and sub-grant recipients. In addition, under the Workforce Investment Act of 1998 and DOL regulations implementing the Workforce Investment Act, a recipient may not use direct Federal assistance to train a participant in religious activities, or employ participants to construct, operate, or maintain any part of a facility that is used or to be used for religious instruction or worship. See 29 CFR 37.6(f). Under WIA, “no individual shall be excluded from participation in, denied the benefits of, subjected to discrimination under, or denied employment in the administration of or in connection with, any such program or activity because of race, color, religion, sex (except as otherwise permitted under Title IX of the Education Amendments of 1972 and the Religious Freedom Restoration Act of 1993), national origin, age, disability, or political affiliation or belief.” Regulations pertaining to the Equal Treatment for Faith-Based Organizations, which includes the prohibition against supporting inherently religious activities with direct DOL financial assistance, can be found at 29 CFR Part 2, Subpart D. Provisions relating to the use of indirect support (such as vouchers) are at 29 CFR 2.33(c) and 20 CFR 667.266.

A faith-based organization receiving federal financial assistance retains its independence from Federal, State, and local governments, and may continue to carry out its mission, including the definition, practice, and expression of its religious beliefs. For example, a faith-based organization may use space in its facilities to provide secular programs or services supported with Federal financial assistance without removing religious art, icons, scriptures, or other religious symbols. In addition, a faith-based organization that receives Federal financial assistance retains its authority over its internal governance, and it may retain religious terms in its organization's name, select its board members on a religious basis, and include religious references in its organization's mission statements and other governing documents in accordance with all program requirements, statutes, and other applicable requirements governing the conduct of DOL funded activities.

The Department notes that the Religious Freedom Restoration Act (RFRA), 42 U.S.C. 2000bb, applies to all Federal law and its implementation. If your organization is a faith-based organization that makes hiring decisions on the basis of religious belief, it may be entitled to receive Federal financial assistance under Title I of the Workforce Investment Act and maintain that hiring practice even though Section 188 of the Workforce Investment Act contains a general ban on religious discrimination in employment. If you are awarded a grant, you will be provided with information on how to request such an exemption.

Faith-based and community organizations may reference “Transforming Partnerships: How to Apply the U.S. Department of Labor's Equal Treatment and Religion-Related Regulations to Public-Private Partnerships” at: http://www.workforce3one.org/public/_shared/detail.cfm?id=5566&simple=false.

Indirect Costs. As specified in OMB Circular Cost Principles, indirect costs are those that have been incurred for common or joint objectives and cannot be readily identified with a particular cost objective. In order to utilize grant funds for indirect costs incurred, the applicant must obtain an Indirect Cost Rate Agreement with its Federal Cognizant Agency either before or shortly after the grant award. If an applicant already has a Federal Indirect Cost Rate Agreement, that agreement may be used.

Administrative Costs. Under the YouthBuild grants, an entity that receives a grant to carry out a project or program may not use more than 15 percent of the amount of the grant to pay administrative costs associated with the program or project. Administrative costs could be both direct and indirect costs and are defined at 20 CFR 667.220. Administrative costs do not need to be identified separately from program costs on the SF 424A Budget Information Form. They should be discussed in the budget narrative and tracked through the grantee's accounting system. To claim any administrative costs that are also indirect costs, the applicant must obtain an indirect cost rate agreement from its Federal Cognizant Agency as specified above.

Intellectual Property Rights. The Federal Government reserves a paid-up, nonexclusive and irrevocable license to reproduce, publish or otherwise use, and to authorize others to use for federal purposes: i) the copyright in all products developed under the grant, including a subgrant or contract under the grant or subgrant; and ii) any rights of copyright to which the grantee, subgrantee or a contractor purchases ownership under an award (including but not limited to curricula, training models, technical assistance products, and any related materials). Such uses include, but are not limited to, the right to modify and distribute such products worldwide by any means, electronically or otherwise. Federal funds may not be used to pay any royalty or licensing fee associated with such copyrighted material, although they may be used to pay costs for obtaining a copy which are limited to the developer/seller costs of copying and shipping. If revenues are generated through selling products developed with grant funds, including intellectual property, these revenues are program income. Program income is added to the grant and must be expended for allowable grant activities.

Salary and Bonus Limitations. In compliance with Public Law 109-234 and Public Law 110-5, none of the funds appropriated in Public Law 109-149, Public Law 110-5, or prior Acts under the heading ‘Employment and Training' that are available for expenditure on or after June 15, 2006, shall be used by a recipient or sub-recipient of such funds to pay the salary and bonuses of an individual, either as direct costs or indirect costs, at a rate in excess of Executive Level II, except as provided for under section 101 of Public Law 109-149. This limitation shall not apply to vendors providing goods and services as defined in OMB Circular A-133. See Training and Employment Guidance Letter number 5-06 for further clarification: http://wdr.doleta.gov/directives/corr_doc.cfm?DOCN=2262.

F. Withdrawal of Applications

Applications may be withdrawn by written notice or telegram (including mailgram) received at any time before an award is made. Applications may be withdrawn in person by the applicant or by an authorized representative thereof, if the representative's identity is made known and the representative signs a receipt for the proposal.

V. Application Review Information

A. Evaluation Criteria

This section identifies and describes the criteria that will be used to evaluate proposals for a YouthBuild Grant. These criteria and point values are:

Criterion | Points
1. Statement of Need | 5
2. Program Management and Organizational Capacity | 15
3. Project Design, Service Strategy, and Program Outcomes | 35
4. Linkages to Key Partners and Leveraged Resources | 25
5. Evidence of Past and Projected Success in YouthBuild or Other Relevant Programs | 20
Total Possible Points | 100

1. Statement of Need (5 points)

Please describe the community where the YouthBuild program will operate. Identify the need for a YouthBuild program in the community that is proposed to be served through the grant and demonstrate the need for the project in that area. Applicants are expected to present information on various characteristics of the community(ies) in which they expect to operate. If there are particular neighborhoods within the city where the grant will be focused, describe these neighborhoods and provide available data specific to those areas. Required information includes the population of the area, its poverty rate, the incidence of homelessness, shortage of affordable housing, its unemployment rate, the graduation rate, and the number of 18-24 year olds without a high school diploma.

To obtain these indicators, applicants can use census tract data from the 2000 census—go to http://factfinder.census.gov and use the link on the left for People. Graduation rates for every school district in the nation may be found at http://www.edweek.org/apps/maps/.

All of these indicators should be presented in chart form and the applicant must provide the sources for the data provided. In addition, applicants should provide information on the economic and employment factors facing the community; including negative factors as well as promising economic and employment trends that will require an educated and skilled workforce.

If the organization plans to build or rehabilitate houses or community/public facilities in a different community from that in which youth will be recruited, present the homelessness and poverty data for that area and the unemployment, poverty, and graduation rates for the area in which the organization will be recruiting youth participants.

Applicants will be evaluated on:

• The clear and specific need for a YouthBuild program in their community;

• The graduation rate and the impact that it has on economic development and burdens on public systems; and

• The degree to which other factors in distressed communities are negatively impacting youth and their families such as poverty rate, unemployment rate, etc. particularly in comparison with other areas of the city.

2. Program Management and Organizational Capacity (15 points)

Please provide a description of the applicant organization and a statement of its qualifications for running a YouthBuild program including years of operation, current annual budget, experience of staff and continuity of leadership and their relevant experience. Please fully describe the organization's capacity to track and report outcomes. Please discuss the professional development activities available to staff, either on-site or through training funds.

Please fully describe any previous experience of the organization in operating grants from either Federal or non-Federal sources. Describe the fiscal controls in place in the organization for auditing and accountability procedures. Grantee must also provide information on the overall financial stability of the organization that has financial oversight for this program.

Please describe the organization's ability to handle multiple funding streams with appropriate accounting systems in place. The applicant should demonstrate how funds will be expended in the period of performance outlined in this SGA.

Applicants must describe their proposed project management structure including, where appropriate, the identification of a proposed project manager, discussion of the proposed staffing pattern, and the qualifications and experience of key staff members or short job descriptions.

Scoring under this criterion will be based on the extent to which applicants provide evidence of the following:

• The overall financial stability of the organization as demonstrated by strong accounting systems, fiscal controls, and previous grants management.

• The capacity of the applicant organization to accomplish the goals and outcomes of the project, including the ability to collect and manage data in a way that allows consistent, accurate, and expedient reporting.

• The time commitment of the proposed staff dedicated to the YouthBuild program is sufficient to ensure proper direction, management, and timely completion of the project.

• The roles and contribution of staff, consultants, and collaborative organizations are clearly defined and linked to specific objects and tasks.

• The background, experience, and other qualifications of the staff are sufficient to carry out their designated roles.

• The organization is able to begin program operations, including the enrollment of youth, within 6 months from the date of the award, and where possible align with the local academic calendar.

In addition, programs with funds remaining from either HUD or DOL YouthBuild awards must demonstrate how additional funds will be integrated into the existing program, how these funds will be used to serve additional youth, and how the additional funds will be expended in the period of performance outlined in the SGA.

3. Project Design, Service Strategy, and Program Outcomes (35 points total)

a. How will youth be recruited and selected for the program? (5 points)

Please provide a description that fully demonstrates how eligible youth will be recruited and selected as participants, including a description of arrangements that will be made with Local Workforce Investment Boards, One-Stop Career Centers, faith-based and community organizations, State educational agencies or local educational agencies (including agencies of Indian tribes), public assistance agencies, the courts of jurisdiction, agencies operating shelters for homeless individuals and other agencies that serve youth who are homeless individuals, foster care agencies, and other appropriate public and private agencies. Please provide a description that fully demonstrates the outreach efforts that will be undertaken to recruit eligible young women (including young women with dependent children) as participants.

Applicants will be evaluated on:

• The quality and comprehensiveness of their recruitment strategy including methods for outreach, referral, and selection.

• The program's efforts to recruit eligible young women into the YouthBuild program.

b. How will education and occupational skills training be delivered to youth? (15 points)

Please provide a description that fully demonstrates the educational and job training activities, work opportunities, post-secondary education and training opportunities, and other services that will be provided to participants, and how those activities, opportunities, and services will prepare youth for employment in occupations in demand in the local labor market. Given the connection between education and earnings, it is DOL's expectation that the academic component will be rigorous and challenging and will provide youth with opportunities to transition to post-secondary training. The program should be structured so that participants in the program are offered education and related services designed to meet educational needs for at least 50 percent of the time during which they participate in the program. YouthBuild program participants must be offered work and skill development activities for at least 40 percent of the time during which they participate in the program.

As described below, the proposal will be rated on the quality of the education program, the quality of the occupational skills training, and the integration of these two components as well as other criteria listed in (1) and (2) below.

(1) Education

Please indicate the type of academic credential that participants earn while in the program (GED or high school diploma). Please fully describe the quality of the academic program and the qualifications of the teaching staff. Fully describe any innovative and successful strategies that the program or initiative has used to address low basic skills of participants. Please describe if and how the academic portion of your program differs from that of a traditional comprehensive high school. If distance learning and/or credit retrieval is used, please fully describe how this is incorporated into the overall academic program. Please describe how student mastery is demonstrated. Please fully describe the relationship between the program and the local school district(s).

Please fully demonstrate how the academic program is integrated with the occupational skills training component of the program. Please explain how academic and occupational skills training instructors work together to reinforce and complement classroom and workplace lessons. Please describe other innovative teaching strategies used in the program.

Please explain how the program explicitly links participants to local community colleges and trade schools, particularly for YouthBuild programs that only offer GEDs to participants.

Please describe the types of college exploration, planning, preparation, and assistance that will be provided. Describe the types of follow-up services that will be provided to support youth as they transition to post-secondary education and ensure that they graduate.

Applicants will be evaluated on:

• The use of innovative and evidence-based instructional strategies to address basic skill deficiencies;

• The extent to which a challenging curriculum is provided;

• The extent to which project-based learning is used;

• The degree to which the occupational skill training provided by the program is reinforced in the academic portion of the program;

• The explicit links for participants to local community colleges and trade schools; and

• The degree to which career and college exploration are incorporated into the overall culture of the program.

(2) Occupational Skills Training

Please discuss the occupational skills training component of the program including where and how the training will be conducted, how the curriculum is developed, the type of industry-recognized credentials that result from the training, and the involvement of industry partners in the development of the training. Describe how the applied learning of the construction trades will improve and enhance the academic outcomes for the youth. Please describe the skills and qualifications of the occupational skills training instructors.

Please provide a description of the payment structure for participants. Provide labor market information for the community, State, and/or region where the YouthBuild program will be implemented, including both current data (as of the date of submission of the application) and projections on career opportunities in growing industries. Please explain how the YouthBuild program will prepare youth for employment in high-growth industries as defined by the local labor market.

Please describe how the organization will oversee the worksite to identify existing and potential hazards, how youth will be trained to protect themselves from potential worksite accidents, and how hazards will be prevented and controlled through policies and procedures. Provide information on how worksite supervisors will be trained to ensure OSHA-approved worksite safety. Please indicate the ratio of adults to youth at construction training sites.

This section of the application will be evaluated on the following criteria:

• The degree to which occupational skills training is integrated with the academic component of the program;

• The availability of industry-recognized credentials upon completion of the occupational skills training components of the program;

• The strength of connections to business partners and apprenticeship programs;

• The duration of the occupational skills training component is aligned with the legislative rule of being at least 40 percent of a participant's time in the program;

• The comprehensiveness of safety plans for the occupational skills training worksite including the training of staff and participants in OSHA guidelines.

c. How will community service learning and leadership development opportunities be provided for youth in the program? (5 points)

Please fully describe the proposed leadership curriculum, qualifications of instructors, and the impact of the proposed leadership activities on the target area. The application must fully describe the leadership development training that will be offered to participants, the expected leadership competencies with which participants will graduate, youth committee involvement strategies, efforts for providing the training to build group cohesion and peer support, and opportunities for continued leadership after graduation. Please describe how community service learning opportunities will be implemented at the site.

Applicants will be evaluated on:

• The quality of leadership development and community service learning activities and

• How these activities are integrated with academic, skills training, and career exploration components of the program.

d. What types of post-program transition services will be provided? What types of follow-up services will be provided? Post-program transition services are defined as services offered during program enrollment that will assist a young person in making a successful transition from the YouthBuild program into employment and/or post-secondary education and training programs. Follow-up services are services provided to a YouthBuild program participant upon exit from the program. (10 points)

Please fully describe the types of post-program transition services that will be offered to prepare youth for career pathway opportunities and placements and/or educational opportunities and placements. Please fully describe how each individual's work readiness will be assessed and how work readiness training will be provided. Also describe how an individual's readiness for placement in post-secondary education and/or apprenticeship programs will be assessed. Please fully demonstrate the types of career exploration and planning activities that will be offered by the program, particularly for high-growth, high-demand, and high-wage occupations. For a list of the U.S. Department of Labor's Employment and Training Administration's Targeted High-Growth Industries, go to: http://www.doleta.gov/BRG/eta_default.cfm.

Please fully describe the program's job placement and retention strategy including how the program will work with employers and/or One-Stop Career Centers to identify and create job openings for the young people served by the program.

Please fully describe the types of follow-up that will be provided to program graduates. These supportive services should relate to employment placement and retention, post-secondary transition and degree attainment. Describe how appropriate continued support services will be provided.

Important elements for evaluation include:

• The degree to which work readiness and career exploration are integrated into the culture, core mission and activities of the program;

• The program's integrated approach to providing post-program planning for participants; and

• The structure of its participant follow-up service strategy.

4. Linkages to Key Partners, Match and Leveraged Resources (25 points total)

a. Who are the key partners that will be supporting the program? (15 points)

Please describe the key partners who will be involved in the proposed YouthBuild project. Specifically, describe in detail the activities to be undertaken by partners, the level of commitment from each partnering organization, and their qualifications to assist with this project. As an attachment, the applicant should include letters of commitment from key partners that demonstrate the strength and maturity of the partnership including previous collaboration on projects. Where they exist, partnerships should include existing statewide collaborations such as Shared Youth Vision state teams and Governor's Children's Cabinets. Prospective applicants should also have thorough knowledge of and, where possible, engage with DOL discretionary projects in their area to determine if collaborations can be created between YouthBuild and other DOL investments, particularly where those investments target at-risk youth and/or the training and employment opportunities relating to the construction industry. These investments include Workforce Innovation in Regional Economic Development (WIRED)— http://www.doleta.gov/wired/, the President's High Growth Job Training Inititiative (HGJTI)— http://www.doleta.gov/BRG/JobTrainInitiative/, and the President's Community-Based Job Training Grants (CBJTG)— http://www.doleta.gov/business/Community-BasedJobTrainingGrants.cfm.

Please describe how the applicant conducted its inventory of community assets of youth-serving organizations. Such an inventory should include faith-based and community organizations and government entities that will be integrated into the network of organizations providing referrals to, supportive services or leveraged resources for youth participating in the proposed program. The Department understands that these inventories will vary from community to community and that, particularly for rural and Native American applicants, resources and services may be limited. The thoroughness of the applicant's process for inventorying available resources in the community will be considered as part of the evaluation of the application.

Please provide a description of how the proposed program will coordinate with Federal, State, and local agencies and Indian tribes to access services, including local workforce investment activities, vocational education programs, limited English proficiency instruction programs, and activities conducted by public schools, community colleges, and national service programs, as well as other job training provided with funds available under this title.

Please describe the partnerships with the juvenile justice system or housing and community development systems. Please fully describe the specific role of employers in the proposed program, such as their role in developing the proposed program and assisting in service provision and in placement activities. Please fully describe the program's relationship with local building trade unions and their role in training, the relationship of the proposed program to established registered apprenticeship programs and employers, and the ability of the applicant to grant industry-recognized skills certifications through the program.

Points for this factor will be awarded based on:

• The comprehensiveness of the partnership and the degree to which each key partner plays a committed role in the proposed project;

• The partners knowledge and experience concerning the proposed grant activities, and their ability to impact the success of the project;

• Evidence, including letters of commitment, that key partners have expressed a clear dedication to the project and understand their areas of responsibility; and

• Evidence of a plan for interaction and communication between partners and the demonstrated ability of the lead agency to successfully manage partnerships.

• A description of the inventory process undertaken to identify partners and resources to support the program. The thoroughness of the process for identifying resources within the applicant's community, not the quantity of the resources, will be evaluated.

b. What match and other leveraged resources are being contributed to this project? (10 points)

Applicants should clearly describe the required matching funds and any additional funds or resources leveraged in support of the proposed strategies and demonstrate how these funds contribute to the goals of the project. Important elements of the explanation include:

• Which partners and/or grant sub-recipients have contributed match and leveraged resources and the extent of each contribution, including an itemized description of each contribution;

• The quality of the match and leveraged resources, including the extent to which each contribution will be used to further the goals of the project; and

• Evidence, such as letters of commitment, that key partners have expressed a clear commitment to provide the contribution.

Assessment of this criterion will be based on the extent to which the application fully describes the amount, commitment, nature, and quality of match and leveraged resources. A match in the sum of 25 percent of the Federal funding request must be provided. Matching funds may be either cash or in-kind. Both matching funds and additional leveraged resources will be scored based on the degree to which the source and use of those resources are clearly explained and the extent to which all resources are fully integrated into the project to support grant outcomes.

5. Evidence of Past and Projected Success in Youthbuild or Other Relevant Programs (20 points)

Please fully describe and document past accomplishments operating a YouthBuild program or similar youth programs that combine academic and occupational skills training. Please explain how long the program has been in operation and provide annual performance data in a chart on the following factors:

• Length of program operation;

• Number of youth recruited;

• Number of youth enrolled;

• Number of youth completing the program;

• Number and percent of youth receiving their GED and/or high school diploma (please differentiate between the two);

• Rate of literacy and numeracy gains by participants;

• Number and percent of youth who have entered construction-related employment;

• Number and percent of youth who have entered other employment;

• Employment retention rates;

• Number and percent of youth who have entered post-secondary training or education;

• Post-secondary training or education retention rates; where available, please indicate the number of participants who have completed post-secondary training or education and have achieved a credential;

• Number and percent of youth who have entered registered apprenticeship programs; and

• Annual cost per participant.

Please indicate the projected enrollment per year and the expected performance outcomes if awarded a grant (in terms of literacy and numeracy gains; high school diploma/GED attainment; placement in employment, post-secondary education, occupational skills training, or the military; and employment retention rate). Please fully describe how both the academic and skills training curricula were developed and how long they have been used. Please note that performance outcomes described in this section are not binding. At the time of grant award, DOL will inform grantees of expected outcomes based on existing outcome data for this type of program. DOL reserves the right to set expected performance outcomes at a later date in the awards selection process.

Please indicate the types of private foundation funding the organization has secured in the past. Also, fully describe long-term partnerships with organizations that have added to the robustness of the program and how the organization has sustained these partnerships.

Important elements to be considered with this factor are:

• The degree to which the performance data is provided and documented;

• The variety and types of funding streams and long-term partnerships that the program has been able to attract to support YouthBuild activities;

• The complexity of construction activities undertaken and the degree to which youth are exposed and trained in a variety of construction skills;

• The use of occupational skills training curriculum that results in an industry-recognized credential; i.e., the National Center for Construction Education and Research (NCCER) or the Home Builder's Institute's (HBI) HPACT curriculum; and

• The use of a State approved curricula for either GED or high school diploma.

B. Review and Selection Process

Proposals that are timely and responsive to the requirements of this SGA will be rated against the criteria listed above by an independent panel comprised of representatives from DOL, HUD, U.S. Department of Justice, and U.S. Department of Health and Human Services and other peers. The ranked scores will serve as the primary basis for selection of applications for funding, in conjunction with other factors such as urban, rural, and geographic balance; whether the areas to be served have previously received grants for YouthBuild programs; the availability of funds; and which proposals are most advantageous to the Government. The panel results are advisory in nature and not binding on the Grant Officer, and the Grant Officer may consider any information that comes to his/her attention. The Government may elect to award the grant(s) with or without discussions with the applicants. Should a grant be awarded without discussions, the award will be based on the applicant's signature on the SF 424, which constitutes a binding offer by the applicant (including electronic signature via E-Authentication on http://www.grants.gov).

VI. Award Administration Information

A. Award Notices

All award notifications will be posted on the ETA homepage (http://www.doleta.gov). Applicants selected for award will be contacted directly before the grant's execution. Applicants not selected for award will be notified by mail.

B. Administrative and National Policy Requirements

1. Administrative Program Requirements

All grantees will be subject to all applicable Federal laws, regulations, and the applicable OMB Circulars. The grant(s) awarded under this SGA will be subject to the following administrative standards and provisions:

a. Non-Profit Organizations—OMB Circulars A-122 (Cost Principles) and 29 CFR Part 95 (Administrative Requirements).

b. Educational Institutions—OMB Circulars A-21 (Cost Principles) and 29 CFR Part 95 (Administrative Requirements).

c. State and Local Governments—OMB Circulars A-87 (Cost Principles) and 29 CFR Part 97 (Administrative Requirements).

d. Profit Making Commercial Firms—Federal Acquisition Regulation (FAR)—48 CFR Part 31 (Cost Principles), and 29 CFR Part 95 (Administrative Requirements).

e. All entities must comply with 29 CFR Parts 93 and 98, and, where applicable, 29 CFR Parts 96 and 99.

f. 29 CFR Part 2, subpart D-Equal Treatment in Department of Labor Programs for Religious Organizations, Protection of Religious Liberty of Department of Labor Social Service Providers and Beneficiaries.

g. 29 CFR Part 31-Nondiscrimination in Federally Assisted Programs of the Department of Labor-Effectuation of Title VI of the Civil Rights Act of 1964.

h. 29 CFR Part 32-Nondiscrimination on the Basis of Handicap in Programs and Activities Receiving or Benefiting from Federal Financial Assistance.

i. 29 CFR Part 33-Enforcement of Nondiscrimination on the Basis of Handicap in Programs or Activities Conducted by the Department of Labor.

j. 29 CFR Part 35-Nondiscrimination on the Basis of Age in Programs or Activities Receiving Federal Financial Assistance from the Department of Labor.

k. 29 CFR Part 36-Nondiscrimination on the Basis of Sex in Education Programs or Activities Receiving Federal Financial Assistance.

The following administrative standards and provisions may be applicable:

a. Workforce Investment Act—20 Code of Federal Regulations (CFR) Part 667 (General Fiscal and Administrative Rules).

b. 29 CFR Part 30—Equal Employment Opportunity in Apprenticeship and Training; and

c. 29 CFR Part 37—Implementation of the Nondiscrimination and Equal Opportunity Provisions of the Workforce Investment Act of 1998.

In accordance with Section 18 of the Lobbying Disclosure Act of 1995 (Pub. L. 104-65) (2 U.S.C. 1611) non-profit entities incorporated under Internal Revenue Service Code section 501(c) (4) that engage in lobbying activities are not eligible to receive Federal funds and grants.

Note: Except as specifically provided in this Notice, DOL/ETA's acceptance of a proposal and an award of Federal funds to sponsor any program(s) does not provide a waiver of any grant requirements and/or procedures. For example, OMB Circulars require that an entity's procurement procedures must ensure that all procurement transactions are conducted, as much as practical, to provide open and free competition. If a proposal identifies a specific entity to provide services, the DOL/ETA's award does not provide the justification or basis to sole source the procurement, i.e., avoid competition, unless the activity is regarded as the primary work of an official partner to the application.

Further, as a Federal agency, DOL has a statutory duty to affirmatively further fair housing. DOL requires the same of its funding recipients under this solicitation. If the organization is a successful applicant, the organization will have a duty to affirmatively further fair housing opportunities for classes protected under the Fair Housing Act. Protected classes include race, color, national origin, religion, sex, disability, and familial status. Therefore, the application should include specific steps to:

• Overcome the effects of impediments to fair housing choice that were identified in the jurisdiction's Analysis of Impediments (AI) to Fair Housing Choice;

• Remedy discrimination in housing; or

• Promote fair housing rights and fair housing choice.

Further, the applicant has a duty to carry out the specific activities provided in its responses to this solicitation that address affirmatively furthering fair housing.

C. Special Program Requirements

Evaluation. DOL may require that the program or project participate in an evaluation of overall performance of YouthBuild grants. To measure the impact of the YouthBuild programs, DOL may arrange for or conduct an independent evaluation of the outcomes and benefits of the projects. Grantees must agree to make and retain records on participants, employers and funding available, and to provide access to program operating personnel and participants, as specified by the evaluator(s) under the direction of DOL, including after the expiration date of the grant.

D. Reporting

Quarterly financial reports, quarterly progress reports, and MIS data will be submitted by the grantee electronically. The grantee is required to provide the reports and documents listed below:

• Quarterly Financial Reports. A Quarterly Financial Status Report (ETA 9130) is required until such time as all funds have been expended or the grant period has expired. Quarterly reports are due 45 days after the end of each calendar year quarter. Grantees must use DOL's On-Line Electronic Reporting System and information and instructions will be provided to grantees.

• Quarterly Narrative Progress Reports. The grantee must submit a quarterly progress report to their designated Federal Project Officer within 45 days after the end of each quarter. This report should provide a detailed account of activities undertaken during that quarter. Grantees must agree to meet DOL reporting requirements. The quarterly progress report should be in narrative form and should include:

1. In-depth information on accomplishments, including project success stories, upcoming grant activities, and promising approaches and processes.

2. Progress toward performance outcomes, including updates on product, curricula, and training development.

• Quarterly Performance Reports. Organizations will be required to submit updated data on enrollment, services provided, placements, outcomes, and follow-up status within 45 days after the end of each quarter. A government-procured, Web-based Case Management and Performance system will be provided at no charge to all grantees. Grantees will be required to have industry-standard computer hardware and high-speed Internet access in order to use the MIS system. Grant funds may be used with the prior approval of the Grant Officer to upgrade computer hardware and Internet access to enable projects to use the MIS system.

• Injury Incident Reports. Organizations will be required to submit incident reports of injuries received by enrollees during the training program. DOL will provide specifications for this reporting after grant award.

• Final Report. A final report must be submitted no later than 90 days after the expiration date of the grant. This report must summarize project activities, employment outcomes, and related results of the training project, and should thoroughly document capacity building and training approaches. The final report should also include copies of all deliverables, e.g. curricula and competency models. Three copies of the final report must be submitted to ETA, and grantees must agree to use a designated format specified by DOL for preparing the final report.

• A Closeout Financial Status Report is due 90 days after the of the grant period.

• Record Retention. Applicants should be aware of Federal guidelines on record retention, which require grantees to maintain all records pertaining to grant activities for a period of not less than three years from the time of final grant close-out.

VII. Agency Contacts

For further information regarding this SGA, please contact Donna Kelly, Grant Officer, Division of Federal Assistance, at (202) 693-3934 (please note this is not a toll-free number). Applicants should fax all technical questions to (202) 693-2705 and must specifically address the fax to the attention of Donna Kelly and should include SGA/DFA PY 08-07, a contact name, fax and phone number, and email address. This announcement is being made available on the ETA Web site at http://www.doleta.gov/sga/sga.cfm, at http://www.grants.gov, and in the Federal Register.

VIII. Additional Resources of Interest to Applicants and Other Information

Resources for the Applicant

DOL maintains a number of web-based resources that may be of assistance to applicants:

• The Web site for the ETA (http://www.doleta.gov) is a valuable source for background information on the President's High Growth Job Training Initiative.

• The Workforce ³ One Web site (http://www.workforce3one.org) is a valuable resource for information about demand driven projects of the workforce investment system, educators, employers, and economic development representatives.

• America's Service Locator (http://www.servicelocator.org) provides a directory of the nation's One-Stop Career Centers.

• Career Voyages (http://www.careervoyages.gov), a Web site targeted at youth, parents, counselors, and career changers, provides information about career opportunities in high-growth/high-demand industries.

• Applicants are encouraged to review “Help with Solicitation for Grant Applications” (http://www.doleta.gov).

• For an understanding of the Department's Equal Treatment and Religion-Related regulations and the responsibilities of receiving Federal grant support, please see “Transforming Partnerships: How to Apply the U.S. Department of Labor's Equal Treatment and Religion-Related Regulations to Public-Private Partnerships” at: http://www.workforce3one.org/public/_shared/detail.cfm?id=5566&simple=false.

• TRAINING AND EMPLOYMENT NOTICE NO. 44-07 “Providing Strategies to the One-Stop Career Center System on Collaborating with YouthBuild Programs” can be found at http://wdr.doleta.gov/directives/corr_doc.cfm?DOCN=2646.

• Information on the Shared Youth Vision can be found at http://www.doleta.gov/ryf/WhiteHouseReport/VMO.cfm.

IX. Other Information

OMB Control Number 1225-0086.

Expires September 30, 2009.

According to the Paperwork Reduction Act of 1995, no persons are required to respond to a collection of information unless such collection displays a valid OMB control number. Public reporting burden for this collection of information is estimated to average 20 hours per response, including time for reviewing instructions, searching existing data sources, gathering and maintaining the data needed, and completing and reviewing the collection of information. Send comments regarding the burden estimated or any other aspect of this collection of information, including suggestions for reducing this burden, to the OMB Desk Officer for ETA, Office of Management and Budget, Room 10235, Washington, DC 20503. PLEASE DO NOT RETURN THE COMPLETED APPLICATION TO THE OMB. SEND IT TO THE SPONSORING AGENCY AS SPECIFIED IN THIS SOLICITATION.

This information is being collected for the purpose of awarding a grant. The information collected through this “Solicitation for Grant Applications” will be used by the DOL to ensure that grants are awarded to the applicant best suited to perform the functions of the grant. Submission of this information is required in order for the applicant to be considered for award of this grant. Unless otherwise specifically noted in this announcement, information submitted in the respondent's application is not considered to be confidential.

Signed at Washington, DC, this 30th day of September 2008.
Donna Kelly,
Employment and Training Administration, Grant Officer.

[FR Doc. E8-23684 Filed 10-6-08; 8:45 am]

BILLING CODE 4510-FT-P